DEPARTMENT OF STATE

[Public Notice: 7626]

Waiver of Restriction on Assistance to the Central Government of Guinea-Bissau

Pursuant to Section 7086(c)(2) of the Department of State, Foreign Operations, and Related Programs Appropriations Act, 2010 (Div. F, Pub. L. 111-117), as carried forward by the Full-Year Continuing Appropriations Act, 2011 (Div. B, Pub. L. 112-10) (“the Act”), and Department of State Delegation of Authority Number 245-1, I hereby determine that it is important to the national interest of the United States to waive the requirements of Section 7086(c)(1) of the Act with respect to Guinea-Bissau and I hereby waive such restriction.

This determination shall be reported to the Congress, and published in the Federal Register.

Dated: July 22, 2011.
Thomas Nides,
Deputy Secretary of State for Management and Resources.

[FR Doc. 2011-25444 Filed 9-30-11; 8:45 am]

BILLING CODE 4710-26-P